DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance
[3/10/2011 through 4/15/2011]
Firm Name | Address | Date accepted for investigation | Products
Arctic Lady Enterprises | 12042 SE Sunnyside Rd., PMB 333, Clackamas, OR 97086 | 13-Apr-11 | The firm produces fresh crab.
Bremtown Fine Custom Cabinetry, Inc. | 1456 SR 331 North, Bremen, IN 46506 | 13-Apr-11 | The firm manufactures wooden cabinetry for residential kitchens.
Collegiate Furnishings, Inc. | 280 Reese Road, State College, PA 16801 | 25-Mar-11 | The firm manufactures wooden furniture from Southern Yellow Pine.
Edgemate, Inc. | 213 Smith Transport Road, Roaring Spring, PA 16673 | 13-Apr-11 | The firm manufactures wood veneer sheets and edgebanding.
Intelicoat Technologies Image Products Holdco, LLC | 28 Gaylord St., Ste. 1, South Hadley, MA 01075 | 13-Apr-11 | The firm manufactures coated paper, film, and specialty substrates for imaging technologies.
Laserlith Corporation | 4775 Technology Circle, Suite 3, Grand Forks, NC 58203 | 11-Apr-11 | The firm manufactures inertial sensors and low-power miniature radar sensors.
Mega Corporation | 516 Morse Avenue, Schaumburg, IL 60193 | 25-Mar-11 | The firm manufactures molded plastic components and assemblies.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: April 15, 2011.
Bryan Borlik,
Director.

[FR Doc. 2011-9681 Filed 4-20-11; 8:45 am]

BILLING CODE 3510-WH-P